INTERNATIONAL TRADE COMMISSION

[Inv. No. 337-TA-435]

In the Matter of Certain Integrated Repeaters, Switches, Transceivers, and Products Containing Same; Notice of Issuance of Limited Exclusion Order

AGENCY: U.S. International Trade Commission.

ACTION: Notice.

SUMMARY: Notice is hereby given that the U.S. International Trade Commission has issued a limited exclusion order in the above-captioned investigation.

FOR FURTHER INFORMATION CONTACT: Michael Liberman, Esq., Office of the General Counsel, U.S. International Trade Commission, 500 E Street, SW., Washington, DC 20436, telephone (202) 205-3115. Copies of the public versions of the Commission's opinion and all other nonconfidential documents in the record of this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: This patent-based section 337 investigation was instituted on August 23, 2000, based upon a complaint filed on July 20, 2000, by Intel Corporation (“Intel”) and Level One Communications, Inc. (“Level One”). 65 FR 51327 (Aug. 23, 2000). The respondent is Altima Communications, Inc. (“Altima”). A second patent-based section 337 investigation naming Altima as a respondent was instituted on April 24, 2000, based upon a complaint filed by Level One on March 23, 2000, and supplemented on April 13, 2000. 65 FR 21789 (Apr. 24, 2000). On August 24, 2000, the presiding administrative law judge (ALJ) issued an order consolidating the two investigations. From April 16, 2001, through April 30, 2001, the ALJ held an evidentiary hearing. On July 19, 2001, the ALJ issued a final initial determination (ID) finding that respondent Altima has violated section 337 of the Tariff Act of 1930, as amended (19 U.S.C. 1337), by infringing certain claims of two of complainants' asserted patents. Specifically, the ALJ found that: (1) There has been importation and sale of the accused products; (2) complainants practice the patents in controversy and satisfy the domestic industry requirements of section 337; (3) certain of the claims in issue are valid; (4) the accused imported products directly infringe certain of the claims in issue; and (5) respondent has induced infringement of certain of the claims in issue. Based on these findings, the ALJ concluded there was a violation of section 337. The ALJ recommended issuance of a limited exclusion order.

Complainants Intel and Level One and respondent Altima filed petitions for review of various portions of the ALJ's final ID, and opposed each others' petitions for review. The Commission investigative attorney (IA) did not petition for review of the final ID, but opposed the other parties' petitions for review. On September 5, 2001, the Commission determined not to review the ALJ's final ID and issued a notice to that effect. 66 Fed. Reg. 47037 (Sep. 10, 2001).

Having determined that a violation of section 337 has occurred in the importation, sale for importation, or sale in the United States of the accused integrated repeaters, as well as integrated repeaters and switches in plastic ball grid array (PBGA) packages, the Commission considered the issues of the appropriate form of relief, whether the public interest precludes issuance of such relief, and the bond during the 60-day Presidential review period.

The Commission determined that a limited exclusion order prohibiting the importation of the accused integrated repeaters, and circuit boards and carriers containing such devices, as well as integrated repeaters, switches and other products in PBGA packages, and circuit boards and carriers containing such devices. and directed to respondent Altima is the appropriate form of relief. The Commission further determined that the statuturay public interest factors don not preclude the issuance of such relief, and that respondent's bond under the limited exclusion order shall be in the amount of 100 percent of the entered value of the imported articles.

This action is taken under the authority of section 337 of the Tariff Act of 1930 (19 U.S.C. 1337) and section 210.50 of the Commission's Rules of Practice and Procedure (19 CFR 210.50).

Dated: Issued: October 24, 2001.
By order of the Commission.
Donna R. Koehnke,
Secretary.

[FR Doc. 01-27167 Filed 10-26-01; 8:45 am]

BILLING CODE 7020-02-M